DEPARTMENT OF HOMELAND SECURITY

Coast Guard

33 CFR Part 117

[USCG-2011-0099]

Drawbridge Operation Regulations; Long Island, New York Inland Waterway From East Rockaway Inlet to Shinnecock Canal, Hempstead, NY

AGENCY: Coast Guard, DHS.

ACTION: Notice of temporary deviation from regulations.

SUMMARY: The Commander, First Coast Guard District, has issued a temporary deviation from the regulation governing the operation of the Meadowbrook State Parkway Bridge across the Sloop Channel, mile 12.8, at Hempstead, New York. The deviation is necessary to install new link arms at the bridge. This deviation allows the bridge to remain in the closed position.

DATES: This deviation is effective from 7 a.m. on March 14, 2011 through 3 p.m. on March 25, 2011.

DATES: Documents mentioned in this preamble as being available in the docket are part of docket USCG-2011-0099 and are available online at http://www.regulations.gov, inserting USCG-2011-0099 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, judy.k.leung-yee@uscg.mil, telephone (212) 668-7165. If you have questions on viewing the docket, call Renee V. Wright, Program Manager, Docket Operations, telephone 202-366-9826.

SUPPLEMENTARY INFORMATION:

The Meadowbrook State Parkway Bridge has a vertical clearance in the closed position of 22 feet at mean high water and 25 feet at mean low water. The existing drawbridge operation regulations are listed at 33 CFR 117.799(h).

The waterway has seasonal recreational vessels and fishing vessels of various sizes. We contacted the commercial fishermen and no objections were received.

The New York Department of Transportation, requested a temporary deviation to facilitate installation of new link arms.

Under this temporary deviation the Meadowbrook State Parkway Bridge at mile 12.8, across Sloop Channel, may remain in the closed position between 7 a.m. and 3 p.m., Monday through Friday, from March 14, 2011 through March 25, 2011. Vessels that can pass under the bridge during the closed periods without a bridge opening may do so at all times.

In accordance with 33 CFR 117.35(e), the bridge must return to its regular operating schedule immediately at the end of the designated time period. This deviation from the operating regulations is authorized under 33 CFR 117.35.

Dated: February 28, 2011.
Gary Kassof,
Bridge Program Manager, First Coast Guard District.

[FR Doc. 2011-5666 Filed 3-10-11; 8:45 am]

BILLING CODE 9110-04-P